DEPARTMENT OF THE INTERIOR

Fish and Wildlife Service

Availability of Final Environmental Impact Statement/Environmental Impact Report for the Proposed Issuance of an Incidental Take Permit for the San Joaquin County Multi-Species Habitat Conservation and Open Space Plan in California

AGENCY: Fish and Wildlife Service, Interior.

ACTION: Notice of availability of a final environmental impact statement/environmental impact report.

SUMMARY: This notice advises the public of the availability of the Final Environmental Impact Statement/Environmental Impact Report on the application to incidentally take 16 federally listed species and 26 currently unlisted species should any of them become listed under the Endangered Species Act of 1973, as amended (Act), during the life of the permit. The San Joaquin Council of Governments (Council of Governments) has applied to the Fish and Wildlife Service (Service) for a 50-year incidental take permit pursuant to section 10(a)(1)(B) of the Act. The Council of Governments has applied for itself and on behalf of the cities of Escalon, Lathrop, Lodi, Manteca, Ripon, Stockton, and Tracy; San Joaquin County; the East Bay Municipal Utility District; California Department of Transportation-District 10 within San Joaquin County; San Joaquin Area Flood Control Agency; Stockton East Water District; and the South San Joaquin Irrigation District (Applicants). This notice is provided pursuant to section 10 of the Act and National Environmental Policy Act Regulation (40 CFR 1506.6).

DATES: A Record of Decision and permit decision will occur no sooner than January 2, 2001.

ADDRESSES: Copies of the San Joaquin County Multi-Species Habitat Conservation and Open Space Plan (Plan), Implementation Agreement, and Final Environmental Impact Statement/Environmental Impact Report are available for review at the following government offices and libraries:

Government Offices—Fish and Wildlife Service, Sacramento Fish and Wildlife Office, 2800 Cottage Way, Suite W-2605, Sacramento, California 95825, (916) 414-6600 and San Joaquin Council of Governments, 6 S. El Dorado St., Suite 400, Stockton, California 95202, (209) 468-3913. The Plan, Implementation Agreement, and Final Environmental Impact Statement/Environmental Impact Report are also available at the website for the San Joaquin Council of Governments at http://www.sjcog.org.

Libraries—California State Library, Information and Reference Center, 914 Capital Mall, Room 301, Sacramento, California 95814, (916) 654-0261; Escalon Branch Library, 1540 Second St., Escalon, California 95320, (209) 838-2478; Tracy Branch Library, 20 E. Eaton Ave., Tracy, California 95376, (209) 831-4250; Cesar Chavez Central Library, 605 N. El Dorado St., Stockton, California 95202, (209) 937-8415; Fair Oaks Branch Library, 2370 E. Main St., Stockton, California 95205, (209) 937-7700; Lodi Library, 201 West Locust Street, Lodi, California 95240, (209) 333-8507; Manteca Branch Library, 320 W. Center St., Manteca, California 95336, (209) 825-2380; Ripon Branch Library, 430 W. Main St., Ripon, California 95366, (209) 599-3326; Margaret Klausner Troke Branch Library, 502 W. Benjamin Holt (at Inglewood), Stockton, California 95207, (209) 937-7000; Maya Angelou Southeast Branch Library, 2324 Pock Lane, Stockton, California 95205, (209) 937-7700.

FOR FURTHER INFORMATION CONTACT: Ms. Vicki Campbell, Conservation Planning Division Chief, Sacramento Fish and Wildlife Office, Sacramento, California, at (916) 414-6600.

SUPPLEMENTARY INFORMATION:

Background

Section 9 of the Act and Federal regulation prohibit the “take” of animal species listed as endangered or threatened. That is, no one may harass, harm, pursue, hunt, shoot, wound, kill, trap, capture or collect listed animal species, or attempt to engage in such conduct (16 U.S.C. 1538). However, under limited circumstances, the Service, may issue permits to authorize “incidental take” of listed animal species. “Incidental take” is defined by the Act as take that is incidental to, and not the purpose of, the carrying out of an otherwise lawful activity. Regulations governing permits for threatened and endangered species, respectively, are at 50 CFR 17.22, 17.23, and 17.32.

The Applicants seek an incidental take permit for the following federally listed species: threatened Aleutian Canada goose (Branta canadensis leucopareia), giant garter snake (Thamnophis gigas), California red-legged frog (Rana aurora draytonii), delta smelt (Hypomesus transpacificus), Sacramento splittail (Pogonichthys macrolepidotus), vernal pool fairy shrimp (Branchinecta lynchi), valley elderberry longhorn beetle (Desmocerus californicus dimorphus), fleshy owl's-clover (Castilleja campestris ssp. succulenta), and endangered San Joaquin kit fox (Vulpes macrotis mutica), Conservancy fairy shrimp (Branchinecta conservatio), longhorn fairy shrimp (Branchinecta longiantenna), vernal pool tadpole shrimp (Lepidurus packardi), riparian woodrat (Neotoma fucipes riparia), riparian brush rabbit (Sylvilagus bachmani riparius), large-flowered fiddleneck (Amsinckia grandiflora), and Greene's tuctoria (Tuctoria greenei). This take would be incidental to the applicants' conversion of open space to non-open space uses within the 900,000+ acre planning area in San Joaquin County (County) in California. The proposed permit also would authorize future incidental take of 26 species that are not currently federally listed, should any of them become listed under the Act during the life of the permit. The 26 currently unlisted species include 13 plant species, 3 amphibian species, 1 reptile species, and 9 bird species. The Plan erroneously identifies the mountain plover (Charadrius montanus) as a federally-listed threatened species. However, the status of this species is still proposed for listing as threatened. This error in the Plan does not change or alter coverage for the mountain plover; incidental take for this species would be authorized should the species become listed under the Act during the life of the permit.

In the Plan, the applicants have proposed the conversion of approximately 109,302 acres from open space to non-open space uses throughout the life of the permit, primarily by activities already addressed in adopted plans of the local cities and County. These activities include residential, commercial, and industrial development; aggregate mining; construction and maintenance of transportation facilities, public utilities, schools, and parks and trails; minor dredging, non-federal flood control and irrigation district projects; agricultural conversions of vernal pool grasslands; managing reserves; and other anticipated projects. A more detailed description of covered activities is provided in the Plan.

The Plan classifies the County's land uses into four general categories: Natural Lands, Agricultural Lands, Multi-Purpose Open Space, and Urban Lands. Habitat preservation and/or creation will be required to mitigate for loss of Natural and Agricultural Lands. For Agricultural Land (e.g., row and field crops), 1 acre will be preserved for each acre impacted. For Natural Lands, mitigation varies according to habitat type: (a) For non-wetland habitat (e.g., grasslands, oak woodlands, scrub), 3 acres will be preserved for each acre lost; (b) for vernal pools in the designated “Vernal Pool Zone”, 2 acres will be preserved and 1 acre will be created for each acre lost; and (c) for wetlands other than vernal pools (e.g., channel islands, riparian creeks, sloughs), each acre lost will be mitigated through 3 acres of preservation, at least 1 acre of which will be created. Up to 71,837 acres of Natural and Agricultural Lands could be converted under the plan, requiring approximately 100,241 acres of habitat preservation and/or creation. Additionally, up to 37,465 acres of Multi-Purpose Open Space are expected to be converted, requiring mitigation in the form of fee payments to help finance enhancement, management, and administration costs associated with the preserve system. The amount of land that will actually be converted during the life of the permit is unknown, but maximum acreage limits have been set based on existing local land use plans.

An additional 600 acres will be preserved under the Plan to compensate for potential impacts to covered species which stray from preserve lands onto neighboring lands. At the election of landowners within 0.5 mile of preserve land, agricultural and aggregate mining activities will receive incidental take authorization for covered species, except for foraging Swainson's hawks, that become established on the property after the adjacent land has been preserved. For foraging Swainson's hawks, landowners within 10 miles of established preserves may receive neighboring land protections at their discretion. Exceptions to this coverage and other details regarding these neighboring land protections are provided in the Plan.

Preservation is anticipated to be achieved primarily through the purchase of conservation easements (approximately 90 percent) with some purchase of lands in fee title (approximately 10 percent). Conservation easements would stress the preservation of existing agricultural practices which are deemed compatible with the conservation of the covered species. It is anticipated that about 100,841 acres of Preserve will be acquired (about 100,241 to mitigate loss of Natural and Agricultural Lands and 600 acres to mitigate for neighboring land protections) during the 50-year term of the Plan. These lands would be preserved and managed for wildlife values in perpetuity.

The Plan includes measures to avoid and minimize incidental take for each of the covered species, emphasizing project design modifications to protect both habitats and species individuals. A monitoring and reporting plan will gauge the Plan's success, based on biological success criteria, and ensure that compensation keeps pace with open space conversions. The Plan also includes adaptive management which allows for changes in the conservation program if the biological success criteria are not met, or new information becomes available to improve the efficacy of the Plan's conservation strategy.

In addition to incidental take avoidance measures, the Plan includes requirements for conserving corridors for the San Joaquin kit fox and for avoiding the creation of linear barriers to species dispersal. The Plan also establishes limits on Natural Land conversions and for particular species covered by the Plan. Details of avoidance and minimization measures, and preserve design and management are presented in the Plan.

The Plan would be implemented by a Joint Powers Authority which would be advised by a Technical Advisory Committee including representatives from the Fish and Wildlife Service, California Department of Fish and Game, and other agencies or parties. Additional assistance will be provided to the Joint Powers Authority by conservation, agricultural, and business interests, and other stakeholders in the County.

Funding for the Plan is anticipated to be provided by multiple sources including development fees (to fund 67 percent of the Plan); local, state and Federal funding sources (16 percent of Plan funding); Plan-generated income (e.g., through lease revenues—approximately 5 percent of funding); conservation bank revenues (2 percent); and revolving funds (10 percent).

The Council of Governments has requested incidental take authorization from the California Department of Fish and Game for a total of 97 species protected under the California Endangered Species Act and/or California Environmental Quality Act. The California Department of Fish and Game intends to use this Final Environmental Impact Statement/Environmental Impact Report and the Plan as a basis for issuing state permits for incidental take of state-protected species resulting from implementation of the Plan.

In October 1, 1999, a notice was published in the Federal Register (64 FR 53401) announcing that the Service had received an application for an incidental take permit from the Council of Governments for implementation of the Plan and the availability of a Draft Environmental Impact Statement/Environmental Impact Report for the application. The Draft Environmental Impact Statement/Environmental Impact Report analyzed the potential environmental impacts that may result from the Federal action of authorizing incidental take anticipated to occur with implementation of the Plan, and identified various alternatives. Twelve comment letters were received on the Draft Environmental Impact Statement/Environmental Impact Report. A response to each comment received in these letters has been included in Final Environmental Impact Statement/Environmental Impact Report.

The Draft Environmental Impact Statement/Environmental Impact Report considered five alternatives, including the Proposed Action and the No-Action Alternatives. Under the No-Action Alternative, landowners within the County would continue to apply for individual incidental take permits on a case-by-case basis, resulting in piecemeal planning that would establish isolated patches of mitigation land scattered throughout the County. This could result in cumulatively significant adverse impacts to those species which would benefit from larger tracts of interconnected habitats.

Under the Reduced Land Acquisition/Increased Preserve Enhancement Alternative, mitigation would focus on habitat enhancement which could interfere substantially with agricultural activities, creating significant adverse impact to agricultural productivity in the County. This alternative would have questionable benefits to the covered species because habitat enhancement is unpredictable and may be unsuccessful.

Under the No Wetlands Coverage Alternative, landowners within the County would continue to apply for individual permits pursuant to the Federal Clean Water Act, which is expected to result in piecemeal planning. Mitigation lands would likely consist of smaller and more widely scattered habitat blocks than would occur with the Proposed Action, resulting in cumulatively significant adverse impacts to those wetland-dependent species which would benefit from larger tracts of interconnected habitats.

Under the Preserve Location Outside of the County Alternative, significantly less habitat within the County would be preserved than with the Proposed Action, adversely impacting some covered species by creating gaps in the species' range and potentially disrupting the genetic integrity of some populations. This alternative could also adversely impact relatively immobile species that are unable to relocate to distant newly created habitats.

The analysis provided in the Final Environmental Impact Statement/Environmental Impact Report is intended to accomplish the following: inform the public of the proposed action; address public comments received on the Draft Environmental Impact Statement/Environmental Impact Report; disclose the direct, indirect, and cumulative environmental effects of the proposed actions; and indicate any irreversible commitment of resources that would result from implementation of the proposed action.

Dated: November 20, 2000.
John Engbring,
Acting Deputy Manager, Region 1, California/Nevada Operations Office, Sacramento, California.

[FR Doc. 00-30080 Filed 11-30-00; 8:45 am]

BILLING CODE 4310-55-P